GENERAL SERVICES ADMINISTRATION

[Notice-FTR-2015-01; Docket 2015-0002; Sequence 1]

2016 Privately Owned Vehicle (POV) Mileage Reimbursement Rates; 2016 Standard Mileage Rate for Moving Purposes

AGENCY: Office of Government-Wide Policy (OGP), General Services Administration (GSA).

ACTION: Notice of FTR Bulletin 16-02, Calendar Year (CY) 2016 Privately Owned Vehicle (POV) Mileage Reimbursement Rates and Standard Mileage Rate for Moving Purposes (Relocation Allowances).

SUMMARY: The General Services Administration (GSA) uses the single standard mileage rate established by the Internal Revenue Service (IRS) as the mileage rate for privately owned automobiles (POA). In addition, the IRS' mileage rate for medical or moving purposes is used to determine the POA rate when a Government-furnished automobile is authorized. This IRS rate also establishes the standard mileage rate for moving purposes as it pertains to official relocation. Finally, GSA's annual privately owned airplane and motorcycle mileage reimbursement rate reviews have resulted in new CY 2016 rates. GSA conducts independent airplane and motorcycle studies that evaluate various factors, such as the cost of fuel, the depreciation of the original vehicles costs, maintenance and insurance, and/or by applying consumer price index data. FTR Bulletin 16-02 establishes the new CY 2016 POV mileage reimbursement rates for official temporary duty and relocation travel ($0.54 for POAs, $0.19 for POAs when a Government furnished automobile is authorized, $1.17 for privately owned airplanes, $0.51 for privately owned motorcycles, and $0.19 for moving purposes), pursuant to the process discussed above. This notice of subject bulletin is the only notification to agencies of revisions to the POV mileage rates for official travel and relocation other than the changes posted on GSA's Web site.

DATES: Effective: December 29, 2015.

Applicability: This notice applies to travel and relocation performed on or after January 1, 2016 through December 31, 2016.

FOR FURTHER INFORMATION CONTACT: For clarification of content, please contact Mr. Cy Greenidge, Office of Government-wide Policy, Office of Asset and Transportation Management, at 202-219-2349, or by email at travelpolicy@gsa.gov. Please cite Notice of FTR Bulletin 16-02.

SUPPLEMENTARY INFORMATION:

Change in Standard Procedure

GSA posts the POV mileage reimbursement rates, formerly published in 41 CFR Chapter 301, solely on the internet at www.gsa.gov/mileage. Also, posted on this site is the standard mileage rate for moving purposes. This process, implemented in FTR Amendment 2010-07, 75 FR 72965 (November 29, 2010), FTR Amendment 2007-03, 72 FR 35187 (June 27, 2007), and FTR Amendment 2007-06, 72 FR 70234 (December 11, 2007), ensures more timely updates regarding mileage reimbursement rates by GSA for Federal employees who are on official travel or relocating. Notices published periodically in the Federal Register, such as this one, and the changes posted on the GSA Web site, now constitute the only notification to Federal agencies of revisions to the POV mileage reimbursement rates and the standard mileage reimbursement rate for moving purposes.

Dated: December 23, 2015.
Alexander J. Kurien,
Deputy Associate Administrator, Office of Asset and Transportation Management, Office of Government-wide Policy.

[FR Doc. 2015-32745 Filed 12-28-15; 8:45 am]

BILLING CODE 6820-14-P